DEPARTMENT OF HOMELAND SECURITY

Federal Emergency Management Agency

44 CFR Part 67

[Docket No. FEMA-P-7697]

Proposed Flood Elevation Determinations

AGENCY: Federal Emergency Management Agency, Emergency Preparedness and Response Directorate, Department of Homeland Security.

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Doug Bellomo, P.E., Hazard Identification Section, Emergency Preparedness and Response Directorate, Federal Emergency Management Agency, 500 C Street, SW., Washington, DC 20472, (202) 646-2903.

SUPPLEMENTARY INFORMATION: The Federal Emergency Management Agency makes the final determinations listed below for the modified BFEs for each community listed. These modified elevations have been published in newspapers of local circulation and ninety (90) days have elapsed since that publication. The Mitigation Division Director of the Emergency Preparedness and Response Directorate has resolved any appeals resulting from this notification.

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act

This proposed rule is categorically excluded from the requirements of 44 CFR Part 10, Environmental Consideration. No environmental impact assessment has been prepared.

Regulatory Flexibility Act

The Mitigation Division Director of the Emergency Preparedness and Response Directorate certifies that this rule is exempt from the requirements of the Regulatory Flexibility Act because modified base flood elevations are required by the Flood Disaster Protection Act of 1973, 42 U.S.C. 4105, and are required to maintain community eligibility in the NFIP. No regulatory flexibility analysis has been prepared.

Regulatory Classification

This proposed rule is not a significant regulatory action under the criteria of Section 3(f) of Executive Order 12866 of September 30, 1993, Regulatory Planning and Review, 58 FR 51735.

Executive Order 12612, Federalism

This proposed rule involves no policies that have federalism implications under Executive Order 12612, Federalism, dated October 26, 1987.

Executive Order 12778, Civil Justice Reform

This proposed rule meets the applicable standards of Section 2(b)(2) of Executive Order 12778.

List of Subjects in 44 CFR Part 67

Administrative practice and procedure, Flood insurance, Reporting and record keeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

Source of flooding and location of referenced elevation | ◆Elevation in feet (NAVD): Existing | ◆Elevation in feet (NAVD): Modified | Communities affected
Heads Creek:
Approximately 3,400 feet upstream of the confluence with the Big River | None | ◆456 | City of Byrnes Mill Jefferson County (Unincorporated Areas).
Approximately 150 feet upstream of Heads Creek Road | None | ◆554
Saline Creek Tributary:
Approximately 150 feet upstream of the confluence with Saline Creek | ◆490 | ◆491 | Jefferson County (Unincorporated Areas).
Approximately 100 feet upstream of Schumacher Road | None | ◆703
Unnamed Tributary to Sandy Creek:
Approximately 1,200 feet upstream of the confluence with Sandy Creek | None | ◆413 | City of Pevely Jefferson County (Unincorporated Areas).
Approximately 70 feet upstream of State Highway Z | None | ◆455
ADDRESSES
City of Byrnes Mill, Jefferson County, Missouri.
Maps are available for inspection at City Hall, 127 Osage Executive Circle, Byrnes Mill, Missouri.
Send comments to The Honorable Timothy Checkett, Mayor, City of Byrnes Mill, City Hall, 127 Osage Executive Circle, Byrnes Mill, Missouri 63051.
Unincorporated Areas of Jefferson County, Missouri.
Maps are available for inspection at the Annex Building, 725 Maple Street, Hillsboro, Missouri.
Send comments to The Honorable Edward L. Kemp, First District Commissioner, Jefferson County Courthouse, 729 Maple Street, Hillsboro, Missouri 63050.
City of Pevely, Jefferson County, Missouri.
Maps are available for inspection at 301 Main Street, Pevely, Missouri.
Send comments to The Honorable John Knobloch, Mayor, City of Pevely, 301 Main Street, Pevely, Missouri 63070.
North Fork Big Nemaha River:
Approximately 1.87 miles downstream of State Highway 50 | None | ◆1,097 | City of Tecumseh Johnson County (Unincorporated Areas).
Just downstream of the Burlington Northern Railroad (2nd Crossing) | None | ◆1,123
North Fork Big Nemaha River (Southwest Split Flow):
At the confluence with North Fork Big Nemaha River | None | ◆1,114 | City of Tecumseh Johnson County (Unincorporated Areas).
Approximately 4,520 feet upstream of U.S. Highway 136 | None | ◆1,123
Town Branch:
At confluence with North Fork Big Nemaha River. | ◆1,113 | ◆1,111 | City of Tecumseh Johnson County (Unincorporated Areas).
Approximately 3,150 feet upstream of U.S. Highway 136. | None | ◆1,144
ADDRESSES
City of Tecumseh, Johnson County, Nebraska.
Maps are available for inspection at City Hall, 122 South 4th Street, Tecumseh, Nebraska.
Send comments to The Honorable Jim Reed, Mayor, City of Tecumseh, Route 3, Box 29. Tecumseh, Nebraska 68450.
Unincorporated Areas of Johnson County, Nebraska.
Maps are available for inspection at Johnson County Clerk's Office, 351 Broadway Street, Tecumseh, Nebraska.
Send comments to The Honorable Terry Keebler, Chairman, Board of Commissioners, 73222 607th Avenue, Sterling, Nebraska 68443.

(Catalog of Federal Domestic Assistance No. 83.100, “Flood Insurance.”)

Dated: July 6, 2005.
David I. Maurstad,
Acting Director, Mitigation Division, Emergency Preparedness and Response Directorate.

[FR Doc. 05-13928 Filed 7-14-05; 8:45 am]

BILLING CODE 9110-12-P